DEPARTMENT OF LABOR

Employment and Training Administration

[TA-W-55,772]

Southern Mechanical Services, Inc. Albemarle, NC; Notice of Termination of Investigation

Pursuant to Section 221 of the Trade Act of 1974, as amended, an investigation was initiated on October 12, 2004, in response to a worker petition filed by a company official on behalf of workers at Southern Mechanical Services, Inc., Albemarle, North Carolina.

The petitioner has requested that the petition be withdrawn. Consequently, the investigation has been terminated.

Signed at Washington, DC this 15th day of October 2004.
Richard Church,
Certifying Officer, Division of Trade Adjustment Assistance.

[FR Doc. E4-2912 Filed 10-28-04; 8:45 am]

BILLING CODE 4510-30-P